DEPARTMENT OF AGRICULTURE

Natural Resources Conservation Service

[Docket No. NRCS-2019-0010]

Adoption of Another Agency's Final Environmental Impact Statement To Implement the Feral Swine Eradication and Control Pilot Program

AGENCY: Natural Resources Conservation Service (NRCS), U.S. Department of Agriculture (USDA).

ACTION: Notice of intent (NOI) to adopt a Final Environmental Impact Statement (FEIS).

SUMMARY: NRCS announces its intent to adopt the FEIS, titled “Feral Swine Damage Management: A National Approach EIS”, prepared by the U.S. Department of Agriculture's Animal and Plant Health Inspection Service (APHIS), under the Environmental Impact Statement (EIS) adoption provisions of the Council on Environmental Quality (CEQ).

DATES: Comment date: NRCS will accept comments that are received or postmarked by August 16, 2019.

ADDRESSES: You may submit comments concerning the adoption of the FEIS titled, “Feral Swine Damage Management: A National Approach EIS,” or submit comments on actions being proposed by NRCS regarding this matter to the Federal eRulemaking Portal at www.regulations.gov. Follow the online instructions for submitting comments.

The FEIS can be accessed here: https://www.aphis.usda.gov/aphis/ourfocus/wildlifedamage/programs/nepa/sa_environmental_assessments+%28ea%29/sa_ws_environmental_assessments_state/ct_united_states.

The associated NRCS Announcement of Program Funding can be accessed on grants.gov.

FOR FURTHER INFORMATION CONTACT: Martin Lowenfish, Branch Chief for Areawide Planning, Natural Resources Conservation Service, at Martin.Lowenfish@usda.gov or (202) 690-4979.

SUPPLEMENTARY INFORMATION: NRCS announces its intent to adopt the FEIS titled, “Feral Swine Damage Management: A National Approach EIS”, prepared by the U.S. Department of Agriculture's Animal and Plant Health Inspection Service (APHIS) under the EIS adoption provisions of the Council on Environmental Quality (CEQ) regulations (40 CFR 1506.3). NRCS is proposing this action to address the mandates in section 2408 of the Agriculture Improvement Act of 2018 (2018 Farm Bill, Pub. L. 115-334) to provide financial assistance for a Feral Swine Eradication and Control Pilot Program in collaboration with APHIS.

Prior to proposing adoption, NRCS reviewed the FEIS and determined that it adequately addresses the alternatives and environmental impacts related to reducing feral swine damage to agriculture, natural resources, property, animal health, and human health and safety on private lands per NRCS's Title 190—National Environmental Compliance Handbook, part 610, subpart F, section 610.83(D), and subpart H, section 610.134. As described in the FEIS, the APHIS project area includes all the United States and its Territories where feral swine exist or may occur. The APHIS Wildlife Services (APHIS-WS) program currently works with federal, state, territorial, and local agencies; tribes; organizations; and private individuals to address specific localized feral swine damage problems. As NRCS collaborates with farmers, ranchers, and non-industrial private forest landowners to address natural resource management objectives on private land throughout the United States and its Territories, NRCS is able to implement actions that complement those of APHIS with NRCS' constituency. Feral swine are a threat nationwide; private lands currently or will soon face growing threats from feral swine. Therefore, section 2408 of the 2018 Farm Bill requires that APHIS and NRCS cooperate in this effort.

The FEIS states that APHIS would serve as the lead agency in a nationally coordinated cooperative effort with other agency partners, tribes, organizations, and local entities. NRCS was a participating agency, but not a cooperating agency, in the preparation of the Feral Swine Damage Management: A National Approach—Final Environmental Impact Statement when it was finalized in 2015. As required in the 2018 Farm Bill, NRCS, through this pilot program, will cooperate with APHIS nationally and will serve as the lead agency for implementing the complementary NRCS action.

The FEIS states that the proposed action is needed to:

1. Expand feral swine management programs nationwide to stabilize and eventually reduce the national feral swine population and associated threats to agriculture, natural resources, property, animal health, and human health;

2. Further develop cooperative partnerships with other pertinent federal, state, territorial, tribal, and local agencies, and private organizations working to reduce impacts of feral swine;

3. Expand feral swine disease monitoring to protect agriculture and human health;

4. Develop and improve tools and methods to manage feral swine populations, predictive models to assess feral swine population expansion and economic impacts, and risk analyses for feral swine impacts to agriculture, animal health, and human health;

5. Develop outreach materials and activities to educate the public about feral swine damage and related activities to prevent or reduce damage; and

6. Coordinate with Canada and Mexico to establish a collaborative plan to address the feral swine threat along the common borders.

The NRCS actions under section 2408 of the 2018 Farm Bill are narrower than the scope of the larger APHIS effort defined in the FEIS and are limited to providing financial assistance specifically for outreach, training, equipment, and operations for feral swine trapping, consistent with APHIS technical standards. Subsequent actions, including disposal, are the responsibility of those carrying out the trapping activities, and must occur consistent with all associated federal, state, and local laws. These actions are fully covered by the FEIS Alternative 2, which was considered by APHIS to be the environmentally preferable and preferred alternative. NRCS has determined that these actions are substantially the same those analyzed in the 2015 Feral Swine Damage Management: A National Approach—Final Environmental Impact Statement, and is circulating the statement in Final form. For its proposed action, NRCS also has determined that Alternative 2 would be environmentally preferable and preferred.

Section 2408 of the 2018 Farm Bill requires that NRCS establish this effort as a pilot program. The specific locations chosen by NRCS for this pilot are based on the severity of damage. NRCS has determined that 11 states, where APHIS has determined feral swine population densities and corresponding associated damages are highest, will be the target of the initial NRCS pilot effort. These 11 states are: Alabama, Arkansas, California,¹ Florida, Georgia, Louisiana, Mississippi, North Carolina, Oklahoma, South Carolina, and Texas. NRCS may consider expanding beyond these 11 pilot states, consistent with the nationwide scope of the FEIS. NRCS and APHIS will collaborate through State technical committees to identify projects under the pilot program and will do so in a way that places a priority where feral swine are a significant threat to agriculture, native ecosystems, or human or animal health.

¹ California chose not to participate at this time.

Prior to recommending adoption, NRCS completed an internal checklist, titled “NEPA Supplementation Review and Documentation Checklist,” as required by its National Environmental Compliance Handbook. It was determined that the FEIS does not need to be supplemented prior to adoption. Further, the FEIS evaluated five alternatives, incorporated mitigation into those alternatives, and included a comprehensive evaluation of environmental impacts. Given this, NRCS has determined the FEIS adequately covers NRCS' proposed action, as encompassed by section 2408 of the 2018 Farm Bill, and has, therefore, proposed its adoption. An associated decision will not be made earlier than 30 days following the publication of this notice in the Federal Register.

NRCS requests feedback from the public, other agencies, tribes, and other interested parties on the proposal to adopt the APHIS FEIS, the FEIS itself, and any associated issues and concerns.

Kevin Norton,
Acting Associate Chief, Natural Resources Conservation Service.

[FR Doc. 2019-15211 Filed 7-16-19; 8:45 am]

BILLING CODE 3410-16-P